NUCLEAR REGULATORY COMMISSION

[NRC-2015-0098]

Seismic Stability Analysis for Spent Fuel Dry Cask Stack-Up Configuration

AGENCY: Nuclear Regulatory Commission.

ACTION: Draft regulatory issue summary; request for comment.

SUMMARY: The U.S. Nuclear Regulatory Commission (NRC) is seeking public comment on a draft regulatory issue summary (RIS), RIS 2015-XX “Seismic Stability Analysis Methodologies for Spent Fuel Dry Cask Loading Stack-up Configuration.” This RIS clarifies the NRC staff's position on acceptable seismic stability analysis methodologies to determine if a spent fuel dry cask loading stack-up configuration needs to be laterally supported

DATES: Submit comments by June 4, 2015. Comments received after this date will be considered if it is practical to do so, but the Commission is able to assure consideration only for comments received before this date.

ADDRESSES: You may submit comments by any of the following methods (unless this document describes a different method for submitting comments on a specific subject):

• Federal Rulemaking Web site: Go to http://www.regulations.gov and search for Docket ID NRC-2015-0098. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Todd Keene, Office of Nuclear Reactor Regulation; telephone: 301-415-1994, email: Todd.Keene@nrc.gov; U.S. Nuclear Regulatory Commission, Washington DC 20555-0001.

SUPPLEMENTARY INFORMATION:

I. Obtaining Information and Submitting Comments

A. Obtaining Information

Please refer to Docket ID NRC-2015-0098 when contacting the NRC about the availability of information for this action. You may obtain publicly-available information related to this action by any of the following methods:

• Federal Rulemaking Web site: Go to http://www.regulations.gov and search for Docket ID NRC-2015-0098.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS, “Seismic Stability Analysis Methodologies for Spent Fuel Dry Cask Loading Stack-up Configuration,” is available in ADAMS under Accession No. ML13353A710.

• NRC's PDR: You may examine and purchase copies of public documents at the NRC's PDR, Room O1-F21, One White Flint North, 11555 Rockville Pike, Rockville, Maryland 20852.

B. Submitting Comments.

Please include Docket ID NRC-2015-0098 in your comment submission.

The NRC cautions you not to include identifying or contact information in comment submisssions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC is requesting public comments on the draft RIS. The NRC issues RISs to communicate with stakeholders on a broad range of regulatory matters. This may include communicating and restating staff technical positions on regulatory matters.

The NRC staff has developed draft RIS 2015-XX, “Seismic Stability Analysis Methodologies for Spent Fuel Dry Cask Loading Stack-up Configuration,” to share information regarding acceptable seismic stability analysis methodologies to determine if a spent fuel dry cask loading stack-up configuration needs to be laterally supported. The draft RIS is available electronically under ADAMS Accession No. ML13353A710.

Dated at Rockville, Maryland, this 14th day of April, 2015.
For the Nuclear Regulatory Commission.
Sheldon Stuchell,
Chief, Generic Communications Branch, Division of Policy and Rulemaking, Office of Nuclear Reactor Regulation.

[FR Doc. 2015-08958 Filed 4-17-15; 8:45 am]

BILLING CODE 7590-01-P